DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2013

AGENCY: Office of the Secretary, USDA.

ACTION: Semiannual regulatory agenda.

SUMMARY: This agenda provides summary descriptions of significant and not significant regulations being developed in agencies of the U.S. Department of Agriculture (USDA) in conformance with Executive Orders (E.O.) 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with E.O. 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important significant regulatory actions and a Statement of Regulatory Priorities are included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: September 5, 2013.
Michael Poe,
Chief, Legislative and Regulatory Staff.

Agricultural Marketing Service—Proposed Rule Stage
Sequence No. | Title | Regulation Identifier No.
152 | National Organic Program, Origin of Livestock, NOP-11-0009 (Reg Plan Seq No. 1) | 0581-AD08
153 | National Organic Program, Organic Pet Food Standards | 0581-AD20
154 | National Organic Program; Sunset Review (2012) for Sodium Nitrate | 0581-AD22
155 | National Organic Program, Organic Apiculture Practice Standard, NOP-12-0063 | 0581-AD31
References in boldface appear in The Regulatory Plan in part II of this issue of the Federal Register.

Agricultural Marketing Service—Final Rule Stage
Sequence No. | Title | Regulation Identifier No.
156 | National Organic Program: Sunset Review for Nutrient Vitamins and Minerals | 0581-AD17

Farm Service Agency—Final Rule Stage
Sequence No. | Title | Regulation Identifier No.
157 | Farm Loan Programs, Clarification and Improvement | 0560-AI14

Animal and Plant Health Inspection Service—Proposed Rule Stage
Sequence No. | Title | Regulation Identifier No.
158 | Scrapie in Sheep and Goats | 0579-AC92
159 | Plant Pest Regulations; Update of General Provisions | 0579-AC98
160 | Bovine Spongiform Encephalopathy and Scrapie; Importation of Small Ruminants and Their Germplasm, Products, and Byproducts | 0579-AD10
161 | Importation of Beef From a Region in Brazil | 0579-AD41
162 | Brucellosis and Bovine Tuberculosis; Update of General Provisions (Reg Plan Seq No. 5) | 0579-AD65
163 | Establishing a Performance Standard for Authorizing the Importation and Interstate Movement of Fruits and Vegetables (Reg Plan Seq No. 6) | 0579-AD71
References in boldface appear in The Regulatory Plan in part II of this issue of the Federal Register.

Animal and Plant Health Inspection Service—Final Rule Stage
Sequence No. | Title | Regulation Identifier No.
164 | Introduction of Organisms and Products Altered or Produced Through Genetic Engineering | 0579-AC31
165 | Bovine Spongiform Encephalopathy; Importation of Bovines and Bovine Products | 0579-AC68
166 | Importation of Live Dogs | 0579-AD23
167 | Importation of Wood Packaging Material From Canada | 0579-AD28
168 | Treatment of Firewood and Spruce Logs Imported From Canada | 0579-AD60

Animal and Plant Health Inspection Service—Long-Term Actions
Sequence No. | Title | Regulation Identifier No.
169 | Handling of Animals; Contingency Plans | 0579-AC69

Animal and Plant Health Inspection Service—Completed Actions
Sequence No. | Title | Regulation Identifier No.
170 | Citrus Canker, Citrus Greening, and Asian Citrus Psyllid; Interstate Movement of Regulated Nursery Stock | 0579-AD29
171 | Domestic Regulation of Firewood | 0579-AD49

Rural Housing Service—Final Rule Stage
Sequence No. | Title | Regulation Identifier No.
172 | Guaranteed Single-Family Housing | 0575-AC18

Food and Nutrition Service—Proposed Rule Stage
Sequence No. | Title | Regulation Identifier No.
173 | Child and Adult Care Food Program: Meal Pattern Revisions Related to the Healthy, Hunger-Free Kids Act of 2010 (Reg Plan Seq No. 11) | 0584-AE18
References in boldface appear in The Regulatory Plan in part II of this issue of the Federal Register.

Food and Nutrition Service—Final Rule Stage
Sequence No. | Title | Regulation Identifier No.
174 | Certification of Compliance With Meal Requirements for the National School Lunch Program Under the Healthy, Hunger-Free Kids Act of 2010 | 0584-AE15

Food Safety and Inspection Service—Proposed Rule Stage
Sequence No. | Title | Regulation Identifier No.
175 | Performance Standards for the Production of Processed Meat and Poultry Products | 0583-AC46

Food Safety and Inspection Service—Long-Term Actions
Sequence No. | Title | Regulation Identifier No.
176 | Mandatory Inspection of Catfish and Catfish Products | 0583-AD36

Forest Service—Proposed Rule Stage
Sequence No. | Title | Regulation Identifier No.
177 | Management of Surface Activities Associated With Outstanding Mineral Rights on National Forest System Lands | 0596-AD03
178 | National Forest System Invasive Species Management Handbook | 0596-AD05
179 | Ski Area—D Clauses: Resource and Improvement Protection, Water Facilities and Water Rights | 0596-AD14

Forest Service—Final Rule Stage
Sequence No. | Title | Regulation Identifier No.
180 | Land Management Planning Rule Policy (Reg Plan Seq No. 21) | 0596-AD06
References in boldface appear in The Regulatory Plan in part II of this issue of the Federal Register.

DEPARTMENT OF AGRICULTURE (USDA)

Agricultural Marketing Service (AMS)

Proposed Rule Stage

152. National Organic Program, Origin of Livestock, NOP-11-0009

Regulatory Plan: This entry is Seq. No. 1 in part II of this issue of the Federal Register.

RIN: 0581-AD08

153. National Organic Program, Organic Pet Food Standards

Legal Authority: 7 U.S.C. 6501

Abstract: The National Organic Program (NOP) is establishing national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically-based regulations for voluntary adoption by State jurisdictions to ensure the safety, quality and effectiveness of feed. In November 2008, the NOSB approved a final recommendation for organic pet food standards incorporating the provisions drafted by the pet food task force.

Timetable:

Action | Date | FR Cite
NPRM | 09/00/14 |
Final Action | 09/00/15 |

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD20

154. National Organic Program; Sunset Review (2012) for Sodium Nitrate

Legal Authority: 7 U.S.C. 6501

Abstract: This action proposes to amend the listing for sodium nitrate on the National List of Allowed and Prohibited Substances as part of the 2012 sunset review process. Consistent with the recommendation from the National Organic Standards Board, this amendment would prohibit the use of the substance in its entirety from organic crop production.

Timetable:

Action | Date | FR Cite
NPRM | 09/00/14 |

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD22

155. • National Organic Program, Organic Apiculture Practice Standard, NOP-12-0063

Legal Authority: 7 U.S.C. 6501

Abstract: This action proposes to amend the USDA organic regulations to reflect an October 2010 recommendation submitted to the Secretary by the National Organic Standards Board (NOSB) concerning the production of organic apicultural (i.e. beekeeping) products. Instead of continuing to allow certifying agents to certify apiculture to the organic livestock standards, this action would establish certification standards specifically for organic bees and bee products. The scope of this action includes provisions for: transition to organic apiculture production, replacement bees, hive construction forage areas, supplemental feeding health care, pest control practices and an organic apiculture system plan. This action would also add a new scope of certification and accreditation to the USDA organic regulations. This action does not regulate the use of bees for pollination of organic crops.

Timetable:

Action | Date | FR Cite
NPRM | 09/00/14 |
Final Action | 09/00/15 |

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD31

DEPARTMENT OF AGRICULTURE (USDA)

Agricultural Marketing Service (AMS)

Final Rule Stage

156. National Organic Program: Sunset Review for Nutrient Vitamins and Minerals

Legal Authority: 7 U.S.C. 6501

Abstract: The Agricultural Marketing Service (AMS) intends to amend the listing for nutrient vitamins and minerals on the U.S. Department of Agriculture's (USDA) National List of Allowed and Prohibited Substances (National List) to clarify what synthetic substances are allowed as vitamins and minerals in products labeled as “organic” or “made with organic (specified ingredients or food group(s)).” In September 2012, AMS published an interim rule (77 FR 59287) to renew the exemption (use) for nutrient vitamins and minerals which was otherwise due to expire, or sunset, on October 21, 2012. The interim rule followed a proposed rule in which AMS suggested amending the listing to allow only vitamins and minerals which are essential for food and required for infant formula. Under the proposed action, synthetic substances that are not specifically referenced by the exemption would be prohibited from use in organic products unless there is an explicit National List exemption for such use. AMS is evaluating the comments on the interim rule and considering the impact of 13 National Organic Standards Board (NOSB) recommendations for affected synthetic nutrients that were petitioned for addition to the National List.

Timetable:

Action | Date | FR Cite
NPRM | 01/12/12 | 77 FR 1980
NPRM Comment Period End | 03/12/12 |
Interim Final Rule | 09/27/12 | 77 FR 59287
Interim Final Rule Comment Period End | 10/21/12 |
Final Action | 09/00/14 |

Regulatory Flexibility Analysis Required: Yes.

Agency Contact: Melissa R Bailey, Director, Standards Division, Department of Agriculture, Agricultural Marketing Service, 14th & Independence Avenue SW., Room 2646-South Building, Washington, DC 20250, Phone: 202 720-3252, Fax: 202 205-7808, Email: melissa.bailey@usda.gov.

RIN: 0581-AD17

BILLING CODE 3410-02-P

DEPARTMENT OF AGRICULTURE (USDA)

Farm Service Agency (FSA)

Final Rule Stage

157. Farm Loan Programs, Clarification and Improvement

Legal Authority: 5 U.S.C. 301; 7 U.S.C. 1989

Abstract: The rule will amend farm loan programs (FLPs) regulations for loan servicing including the following areas:

Real estate appraisals;

Lease, subordination, and disposition of security; and

Conservation contracts.

FSA is also making technical and conforming amendments. The amendments are technical corrections, clarifications, and procedural improvements that will allow FSA to further streamline normal servicing activities and reduce burden on borrowers while still protecting the loan security.

Timetable:

Action | Date | FR Cite
NPRM | 04/13/12 | 77 FR 22444
NPRM Comment Period End | 06/12/12
Final Action | 11/00/13

Regulatory Flexibility Analysis Required: Yes.

Agency Contact: Deirdre Holder, Director, Regulatory Review Group, Department of Agriculture, Farm Service Agency, 1400 Independence Avenue SW., Washington, DC 20250-0572,Phone: 202 205-5851,Fax: 202 720-5233,Email: deirdre.holder@wdc.usda.gov.

RIN: 0560-AI14

BILLING CODE 3410-05-P

DEPARTMENT OF AGRICULTURE (USDA)

Animal and Plant Health Inspection Service (APHIS)

Proposed Rule Stage

158. Scrapie in Sheep and Goats

Legal Authority: 7 U.S.C. 8301 to 8317

Abstract: This rulemaking would amend the scrapie regulations by changing the risk groups and categories established for individual animals and for flocks. It would simplify, reduce, or remove certain recordkeeping requirements. This action would provide designated scrapie epidemiologists with more alternatives and flexibility when testing animals in order to determine flock designations under the regulations. It would also make the identification and recordkeeping requirements for goat owners consistent with those for sheep owners. These changes would affect sheep and goat producers and State governments.

Timetable:

Action | Date | FR Cite
NPRM | 02/00/14
NPRM Comment Period End | 04/00/14

Regulatory Flexibility Analysis Required: Yes.

Agency Contact: Diane Sutton, National Scrapie Program Coordinator, Ruminant Health Programs, NCAHP, VS, Department of Agriculture, Animal and Plant Health Inspection Service, 4700 River Road, Unit 43, Riverdale, MD 20737-1235,Phone: 301 851-3509.

RIN: 0579-AC92

159. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332

Abstract: We are proposing to revise our regulations regarding the movement of plant pests. We are proposing to regulate the movement of not only plant pests, but also biological control organisms and associated articles. We are proposing risk-based criteria regarding the movement of biological control organisms, and are proposing to establish regulations to allow the movement in interstate commerce of certain types of plant pests without restriction by granting exceptions from permitting requirements for those pests. We are also proposing to revise our regulations regarding the movement of soil and to establish regulations governing the biocontainment facilities in which plant pests, biological control organisms, and associated articles are held. This proposed rule replaces a previously published proposed rule, which we are withdrawing as part of this document. This proposal would clarify the factors that would be considered when assessing the risks associated with the movement of certain organisms, facilitate the movement of regulated organisms and articles in a manner that also protects U.S. agriculture, and address gaps in the current regulations.

Timetable:

Action | Date | FR Cite
Notice of Intent To Prepare an Environmental Impact Statement | 10/20/09 | 74 FR 53673
Notice Comment Period End | 11/19/09
NPRM | 02/00/14
NPRM Comment Period End | 04/00/14

Regulatory Flexibility Analysis Required: Yes.

Agency Contact: Shirley Wager-Page, Chief, Pest Permitting Branch, Plant Health Programs, PPQ, Department of Agriculture, Animal and Plant Health Inspection Service, 4700 River Road, Unit 131, Riverdale, MD 20737-1236,Phone: 301 851-2323.

RIN: 0579-AC98

160. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 05/00/14 |
NPRM Comment Period End | 07/00/14 |

Regulatory Flexibility Analysis Required: Yes.

Agency Contact: Peter Merrill, Assistant Director, Technical Trade Services, National Center for Import and Export, VS, Department of Agriculture, Animal and Plant Health Inspection Service, 4700 River Road, Unit 39, Riverdale, MD 20737-1231,Phone: 301 851-3300.

RIN: 0579-AD10

161. Importation of Beef From a Region in Brazil

Legal Authority: 7 U.S.C. 450; 7 U.S.C. 7701 to 7772; 7 U.S.C. 7781 to 7786; 7 U.S.C. 8301 to 8317; 21 U.S.C. 136 and 136a; 31 U.S.C. 9701

Abstract: This rulemaking would amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States provided certain conditions are met. This action would provide for the importation of beef from the designated region in Brazil into the United States while continuing to protect the United States against the introduction of foot-and-mouth disease.

Timetable:

Action | Date | FR Cite
NPRM | 01/00/14 |
NPRM Comment Period End | 03/00/14 |

Regulatory Flexibility Analysis Required: Yes.

Agency Contact: Silvia Kreindel, Senior Staff Veterinarian, Regionalization Evaluation Services Staff, NCIE, VS, Department of Agriculture, Animal and Plant Health Inspection Service, 4700 River Road, Unit 39, Riverdale, MD 20737-1231,Phone: 301 851-3313.

RIN: 0579-AD41

162. Brucellosis and Bovine Tuberculosis; Update of General Provisions

Regulatory Plan: This entry is Seq. No. 5 in part II of this issue of the Federal Register.

RIN: 0579-AD65

163. Establishing a Performance Standard for Authorizing the Importation and Interstate Movement of Fruits and Vegetables

Regulatory Plan: This entry is Seq. No. 6 in part II of this issue of the Federal Register.

RIN: 0579-AD71

DEPARTMENT OF AGRICULTURE (USDA)

Animal and Plant Health Inspection Service (APHIS)

Final Rule Stage

164. Introduction of Organisms and Products Altered or Produced Through Genetic Engineering

Legal Authority: 7 U.S.C. 7701 to 7772; 7 U.S.C. 7781 to 7786; 31 U.S.C. 9701

Abstract: This rulemaking will amend the regulations regarding the importation, interstate movement, and environmental release of certain genetically engineered organisms. This rule will affect persons involved in the importation, interstate movement, or release into the environment of genetically engineered plants and certain other genetically engineered organisms.

Timetable:

Action | Date | FR Cite
Notice of Intent to Prepare an Environmental Impact Statement | 01/23/04 | 69 FR 3271
Comment Period End | 03/23/04 |
Notice of Availability of Draft Environmental Impact Statement | 07/17/07 | 72 FR 39021
Comment Period End | 09/11/07 |
NPRM | 10/09/08 | 73 FR 60007
NPRM Comment Period End | 11/24/08 |
Correction | 11/10/08 | 73 FR 66563
NPRM Comment Period Reopened | 01/16/09 | 74 FR 2907
NPRM Comment Period End | 03/17/09 |
NPRM; Notice of Public Scoping Session | 03/11/09 | 74 FR 10517
NPRM Comment Period Reopened | 04/13/09 | 74 FR 16797
NPRM Comment Period End | 06/29/09 |
Final Rule | 06/00/14 |

Regulatory Flexibility Analysis Required: Yes.

Agency Contact: Andrea Huberty, Branch Chief, Regulatory and Environmental Analysis, BRS, Department of Agriculture, Animal and Plant Health Inspection Service, 4700 River Road, Unit 146, Riverdale, MD 20737-1236,Phone: 301 851-3880.

RIN: 0579-AC31

165. Bovine Spongiform Encephalopathy; Importation of Bovines and Bovine Products

Legal Authority: 7 U.S.C. 450; 7 U.S.C. 1622; 7 U.S.C. 7701 to 7772; 7 U.S.C. 8301 to 8317; 21 U.S.C. 136 and 136a; 31 U.S.C. 9701

Abstract: This rulemaking will amend the regulations regarding the importation of bovines and bovine products. This rulemaking will also address public comments received in response to a September 2008 request for comments regarding certain provisions of an APHIS January 2005 final rule.

Timetable:

Action | Date | FR Cite
NPRM | 03/16/12 | 77 FR 15848
NPRM Comment Period End | 05/15/12 |
NPRM Comment Period Reopened | 05/21/12 | 77 FR 29914
NPRM Comment Period Reopened End | 06/14/12 |
Final Rule | 12/04/13 | 78 FR 72979
Final Rule Effective | 03/04/14 |

Regulatory Flexibility Analysis Required: Yes.

Agency Contact: Betzaida Lopez, Staff Veterinarian, Technical Trade Services, National Center for Import and Export, VS, Department of Agriculture, Animal and Plant Health Inspection Service, 4700 River Road, Unit 39, Riverdale, MD 20737-1231,Phone: 301 851-3364.

Christopher Robinson, Senior Staff Veterinarian, Technical Trade Services, National Center for Import and Export, VS, Department of Agriculture, Animal and Plant Health Inspection Service, 4700 River Road, Unit 40, Riverdale, MD 20737-1231,Phone: 301 851-3300.

RIN: 0579-AC68

166. Importation of Live Dogs

Legal Authority: 7 U.S.C. 2148

Abstract: We are amending the regulations to implement an amendment to the Animal Welfare Act (AWA). The Food, Conservation, and Energy Act of 2008 added a new section to the AWA to restrict the importation of certain live dogs. Consistent with this amendment, this rule prohibits the importation of dogs, with limited exceptions, from any part of the world into the continental United States or Hawaii for purposes of resale, research, or veterinary treatment, unless the dogs are in good health, have received all necessary vaccinations, and are at least 6 months of age. This action is necessary to implement the amendment to the AWA and will help to ensure the welfare of imported dogs.

Timetable:

Action | Date | FR Cite
NPRM | 09/01/11 | 76 FR 54392
NPRM Comment Period End | 10/31/11 |
Final Rule | 03/00/14 |

Regulatory Flexibility Analysis Required: Yes.

Agency Contact: Gerald Rushin, Veterinary Medical Officer, Animal Care, Department of Agriculture, Animal and Plant Health Inspection Service, 4700 River Road, Unit 84, Riverdale, MD 20737-1231,Phone: 301 851-3740.

RIN: 0579-AD23

167. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles to remove the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11 |
Final Rule | 04/00/14 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231,Phone: 301 851-2344.

RIN: 0579-AD28

168. Treatment of Firewood and Spruce Logs Imported From Canada

Legal Authority: 7 U.S.C. 450; 7 U.S.C. 7701 to 7772; 7 U.S.C. 7781 to 7786; 21 U.S.C. 136 and 136a

Abstract: This rulemaking will amend the regulations to require firewood of all species imported from Canada, including treated lumber (furniture scraps) sold as kindling, and all spruce logs imported from Nova Scotia to be heat-treated and to be accompanied by either a certificate of treatment or an attached commercial treatment label. This action is necessary on an immediate basis to prevent the artificial spread of pests including emerald ash borer, Asian longhorned beetle, gypsy moth, European spruce bark beetle, and brown spruce longhorn beetle to noninfested areas of the United States and to prevent further introductions of these pests into the United States.

Timetable:

Action | Date | FR Cite
Interim Final Rule | 03/00/14 |
Interim Final Rule Comment Period End | 05/00/14 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231,Phone: 301 851-2344,

RIN: 0579-AD60

DEPARTMENT OF AGRICULTURE (USDA)

Animal and Plant Health Inspection Service (APHIS)

Long-Term Actions

169. Handling of Animals; Contingency Plans

Legal Authority: 7 U.S.C. 2131 to 2159

Abstract: This rulemaking amends the Animal Welfare Act regulations to add requirements for contingency planning and training of personnel by research facilities and by dealers, exhibitors, intermediate handlers, and carriers. We are taking this action because we believe all licensees and registrants should develop a contingency plan for all animals regulated under the Animal Welfare Act in an effort to better prepare for potential disasters. This action will heighten the awareness of licensees and registrants regarding their responsibilities and help ensure a timely and appropriate response should an emergency or disaster occur.

Timetable:

Action | Date | FR Cite
NPRM | 10/23/08 | 73 FR 63085
NPRM Comment Period End | 12/22/08 |
NPRM Comment Period Extended | 12/19/08 | 73 FR 77554
NPRM Comment Period Extended End | 02/20/09 |
Final Rule Effective | 01/30/13 |
Final Rule—Stay of Regulations | 07/31/13 | 78 FR 46255
Final Rule Effective—Stay of Regulations | 07/31/13 |
Next Action Undetermined |  |

Regulatory Flexibility Analysis Required: Yes.

Agency Contact: Jeanie Lin,Phone: 919 855-7100.

RIN: 0579-AC69

DEPARTMENT OF AGRICULTURE (USDA)

Animal and Plant Health Inspection Service (APHIS)

Completed Actions

170. Citrus Canker, Citrus Greening, and Asian Citrus Psyllid; Interstate Movement of Regulated Nursery Stock

Legal Authority: 7 U.S.C. 7701 to 7772; 7 U.S.C. 7781 to 7786

Abstract: This rulemaking will amend the regulations governing the interstate movement of regulated articles from areas quarantined for citrus canker, citrus greening, and/or Asian citrus psyllid (ACP) to allow the movement of regulated nursery stock under a certificate to any area within the United States. In order to be eligible to move regulated nursery stock, a nursery must enter into a compliance agreement with APHIS that specifies the conditions under which the nursery stock must be grown, maintained, and shipped. It will also amend the regulations that allow the movement of regulated nursery stock from an area quarantined for ACP, but not for citrus greening, to amend the existing regulatory requirements for the issuance of limited permits for the interstate movement of the nursery stock. We made these changes on an immediate basis in order to provide nursery stock producers in areas quarantined for citrus canker, citrus greening, or ACP with the ability to ship regulated nursery stock to markets within the United States that would otherwise be unavailable to them due to the prohibitions and restrictions contained in the regulations while continuing to provide adequate safeguards to prevent the spread of the three pests into currently unaffected areas of the United States.

Completed:

Reason | Date | FR Cite
Final Rule | 10/24/13 | 78 FR 63369
Final Rule Effective | 11/25/13 |

Regulatory Flexibility Analysis Required: Yes.

Agency Contact: Lynn Evans-Goldner,Phone: 301 851-2286.

RIN: 0579-AD29

171. Domestic Regulation of Firewood

Legal Authority: 7 U.S.C. 7701 to 7772; 7 U.S.C. 7781 to 7786

Abstract: This rulemaking would require that commercial firewood destined to be moved interstate be affixed with a label on which the county and State, or counties and States, in which the wood from which the firewood was produced was harvested, the site at which the firewood was produced, what phytosanitary treatment, if any, the firewood has received, and contact information for reporting detections of suspected plant pests are prominently and legibly displayed. We would also require firewood producers, distributors, and retailers to retain records regarding the manufacturing, purchase, and sale of the firewood. Although the movement of commercial firewood in interstate commerce can be a pathway for numerous plant pests, this movement is currently largely unregulated. This action would aid in preventing the further dissemination of plant pests within the United States through the interstate movement of firewood.

Completed:

Reason | Date | FR Cite
Withdrawn | 08/27/13 |

Regulatory Flexibility Analysis Required: Yes.

Agency Contact: Paul Chaloux,Phone: 301 851-2064.

RIN: 0579-AD49

BILLING CODE 3410-34-P

DEPARTMENT OF AGRICULTURE (USDA)

Rural Housing Service (RHS)

Final Rule Stage

172. Guaranteed Single-Family Housing

Legal Authority: 5 U.S.C. 301; 7 U.S.C. 1989; 42 U.S.C. 1480

Abstract: The Guaranteed Single-Family Housing Loan Program is taking the proposed action to implement authorities granted the Secretary of the USDA, in section 102 of the Supplemental Appropriations Act, 2010 (Pub. L. 111-212, July 29, 2010). The intent of the annual fee is to make the SFHGLP subsidy neutral when used in conjunction with the one-time guarantee fee, thus eliminating the need for taxpayer support of the program.

Timetable:

Action | Date | FR Cite
NPRM | 10/28/11 | 76 FR 66860
NPRM Comment Period End | 12/27/11 |
Interim Final Rule | 12/00/13 |

Regulatory Flexibility Analysis Required: Yes.

Agency Contact: Cathy Glover, Senior Loan Specialist, Department of Agriculture, Rural Housing Service, 1400 Independence Avenue SW., STOP 0784, Washington, DC 02050-0784,Phone: 202 720-1460,Email: cathy.glover@wdc.usda.gov.

RIN: 0575-AC18

BILLING CODE 3410-XV-P

DEPARTMENT OF AGRICULTURE (USDA)

Food and Nutrition Service (FNS)

Proposed Rule Stage

173. Child and Adult Care Food Program: Meal Pattern Revisions Related to the Healthy, Hunger-Free Kids Act of 2010

Regulatory Plan: This entry is Seq. No. 11 in part II of this issue of the Federal Register.

RIN: 0584-AE18

DEPARTMENT OF AGRICULTURE (USDA)

Food and Nutrition Service (FNS)

Final Rule Stage

174. Certification of Compliance With Meal Requirements for the National School Lunch Program Under the Healthy, Hunger-Free Kids Act of 2010

Legal Authority: Pub. L. 111-296

Abstract: This rule codifies section 201 of the Healthy, Hunger-Free Kids Act (Pub. L. 111-296) under 7 CFR part 210 directing the Secretary to provide, additional 6 cents per lunch, adjusted annually for changes in the Consumer Price Index, for schools that are certified to be in compliance with the interim/final regulation, “Nutrition Standards in the National School Lunch and Breakfast Programs,” (77 FR 4088, January 26, 2012). This rule establishes the compliance standards that State agencies will use to certify schools that are eligible to receive the rate increase.

Timetable:

Action | Date | FR Cite
Interim Final Rule | 04/27/12 | 77 FR 25024
Interim Final Rule Effective | 07/01/12
Interim Final Rule Comment Period End | 07/26/12
Final Rule | 02/00/14

Regulatory Flexibility Analysis Required: Yes.

Agency Contact: James F Herbert, Regulatory Review Specialist, Department of Agriculture, Food and Nutrition Service, 3101 Park Center Drive, Alexandria, VA 22302, Phone: 703 305-2572, Email: james.herbert@fns.usda.gov, Lynnette M Williams, Chief, Planning and Regulatory Affairs Branch, Department of Agriculture, Food and Nutrition Service, 3101 Park Center Drive, Alexandria, VA 22302, Phone: 703 605-4782, Email: lynnette.williams@fns.usda.gov.

RIN: 0584-AE15

BILLING CODE 3410-30-P

DEPARTMENT OF AGRICULTURE (USDA)

Food Safety and Inspection Service (FSIS)

Proposed Rule Stage

175. Performance Standards for the Production of Processed Meat and Poultry Products

Legal Authority: 21 U.S.C. 451 et seq.; 21 U.S.C. 601 et seq.

Abstract: FSIS is proposing to establish pathogen reduction performance standards for all ready-to-eat (RTE) and partially heat-treated meat and poultry products. The performance standards spell out the objective level of pathogen reduction that establishments must meet during their operations in order to produce safe products, but allow the use of customized, plant-specific processing procedures other than those prescribed in their earlier regulations. With HACCP, food safety performance standards give establishments the incentive and flexibility to adopt innovative, science-based food safety processing procedures and controls, while providing objective, measurable standards that can be verified by Agency inspectional oversight. This set of performance standards will include and be consistent with standards already in place for certain ready-to-eat meat and poultry products.

Timetable:

Action | Date | FR Cite
NPRM | 02/27/01 | 66 FR 12590
NPRM Comment Period End | 05/29/01
NPRM Comment Period Extended | 07/03/01 | 66 FR 35112
NPRM Comment Period Extended End | 09/10/01
Interim Final Rule | 06/06/03 | 68 FR 34208
Interim Final Rule Effective | 10/06/03
Interim Final Rule Comment Period End | 01/31/05
NPRM Comment Period Reopened | 03/24/05 | 70 FR 15017
NPRM Comment Period Reopened End | 05/09/05
Affirmation of Interim Final Rule and Supplemental Proposed Rule | 06/00/14

Regulatory Flexibility Analysis Required: Yes.

Agency Contact: Rachel Edelstein, Assistant Administrator, Office of Policy and Program Development, Department of Agriculture, Food Safety and Inspection Service, 1400 Independence Avenue SW., 350-E JLW Building, Washington, DC 20250-3700, Phone: 202 205-0495, Fax: 202 720-2025, Email: rachel.edelstein@fsis.usda.gov.

RIN: 0583-AC46

DEPARTMENT OF AGRICULTURE (USDA)

Food Safety and Inspection Service (FSIS)

Long-Term Actions

176. Mandatory Inspection of Catfish and Catfish Products

Legal Authority: 21 U.S.C. 601 et seq.; Pub. L. 110-249, sec 11016

Abstract: The Food, Conservation, and Energy Act of 2008 (Pub. L. 110-246, sec. 11016), known as the 2008 Farm Bill, amended the Federal Meat Inspection Act (FMIA) to make catfish an amenable species under the FMIA. Amenable species must be inspected, so this rule will define inspection requirements for catfish. The regulations will define “catfish” and the scope of coverage of the regulations to apply to establishments that process farm-raised species of catfish and to catfish and catfish products.

Timetable:

Action | Date | FR Cite
NPRM | 02/24/11 | 76 FR 10434
NPRM Comment Period End | 06/24/11
Final Rule | To Be | Determined

Regulatory Flexibility Analysis Required: Yes.

Agency Contact: Rachel Edelstein, Phone: 202 205-0495, Fax: 202 720-2025, Email: rachel.edelstein@fsis.usda.gov.

RIN: 0583-AD36

BILLING CODE 3410-DM-P

DEPARTMENT OF AGRICULTURE (USDA)

Forest Service (FS)

Proposed Rule Stage

177. Management of Surface Activities Associated With Outstanding Mineral Rights on National Forest System Lands

Legal Authority: Not Yet Determined

Abstract: Close to 11,000,000 acres (approximately 6 percent) of National Forest System lands overlie severed (split) mineral estates owned by a party other than the Federal Government. Over 75 percent of these lands are in the Eastern Region (Forest Service Regions 8 and 9). There are two kinds of severed mineral estates, generally known as “private rights”: Reserved and outstanding. Reserved mineral rights are those retained by a grantor in a deed conveying land to the United States. Outstanding mineral rights are those owned by a party other than the surface owner at the time the surface was conveyed to the United States. Because these are non-Federal mineral interests, the USDI Bureau of Land Management has no authority for or role in managing development activities associated with such interests. States have the authority and responsibility for regulating development of the private mineral estate.

Various Secretary's Rules and Regulations (years of 1911, 1937, 1938, 1939, 1947, 1950, and 1963) and Forest Service regulations at 36 CFR 251.15 provide direction for the use of NFS lands for mineral development activities associated with the exercise of reserved mineral rights. These existing rules for reserved minerals development activities also include requirements for protection of NFS resources.

Currently there are no formal regulations governing the use of NFS lands for activities associated with the exercise of outstanding mineral rights underlying those lands. The Energy Policy Act of 1992, section 2508, directed the Secretary of Agriculture to: apply specified terms and conditions to surface-disturbing activities related to development of oil and gas on certain lands with outstanding mineral rights on the Allegheny National Forest, and promulgate regulations implementing that section.

The Forest Service initiated rulemaking for the use of NFS lands for development activities associated with both reserved and outstanding minerals rights with an Advance Notice of Proposed Rulemaking (ANPRM) in the Federal Register on December 29, 2008. Comments from the public in response to the ANPRM conveyed a high level of concern about the broad scope of the rule, along with a high level of concern about effects of a broad rule on small businesses and local economies.

Timetable:

Action | Date | FR Cite
ANPRM | 12/29/08 | 73 FR 79424
ANPRM Comment Period End | 02/27/09
NPRM | 08/00/14

Regulatory Flexibility Analysis Required: Yes.

Agency Contact: LaRenda C King, Assistant Director, Directives and Regulations, Department of Agriculture, Forest Service, ATTN: ORMS, D&R Branch, 1400 Independence Avenue SW., Washington, DC 20250-0003, Phone: 202 205-6560, Email: larendacking@fs.fed.us.

RIN: 0596-AD03

178. National Forest System Invasive Species Management Handbook

Legal Authority: 16 U.S.C. 473 et seq.; 16 U.S.C. 528 et seq.; 16 U.S.C. 1600 et seq.

Abstract: Management activities to address the threats and impacts of invasive species across the National Forest System are guided by a general, broad policy articulated in the proposed Forest Service Manual 2900 (NFS Invasive Species Management). The specific requirements, standards, criteria, rules, and guidelines for Forest Service staff to effectively manage invasive species on NFS lands will be provided in a handbook which will tier to FSM 2900. The proposed handbook will be issued through the Directives system.

Timetable:

Action | Date | FR Cite
NPRM | 07/00/14

Regulatory Flexibility Analysis Required: No.

Agency Contact: LaRenda C King, Assistant Director, Directives and Regulations, Department of Agriculture, Forest Service, ATTN: ORMS, D&R Branch, 1400 Independence Avenue SW., Washington, DC 20250-0003, Phone: 202 205-6560, Email: larendacking@fs.fed.us.

RIN: 0596-AD05

179. • Ski Area—D Clauses: Resource and Improvement Protection, Water Facilities and Water Rights

Legal Authority: Not Yet Determined

Abstract: On November 8, 2011, the Forest Service issued an interim directive (FSH 2709.11-2011-3) including a revised clause to address the ownership of water rights developed on National Forest System (NFS) lands for use by ski area permit holders. On March 6, 2012, a second interim directive (FSH 2709.11-2012-1) for the revised ski area water rights clause was issued, superseding the 2011 version. The National Ski Areas Association filed a lawsuit in the United States District Court for the District of Colorado on March 12, 2012, opposing use of the revised clause. On December 19, 2012, the court ruled that the Forest Service had erred in not providing an opportunity for notice and comment on the interim directive and that the agency needed to conduct a Regulatory Flexibility Act analysis of the impact of the directive on small business entities that hold ski area permits. The court vacated the interim directive and enjoined enforcement of the 2011 and 2012 clauses in permits containing them.

The Forest Service intends to publish the proposed ski area water rights clause in the Federal Register for public notice and comment. To identify interests and views from a diverse group of stakeholders regarding a revised water rights clause for ski areas, the Forest Service held four stakeholder meetings in April 2013. The input from the stakeholder sessions will be considered in the development of a proposed water rights clause for ski areas.

The proposed directive would address the development of water facilities on NFS lands; the ownership of preexisting and future water rights; mechanisms to ensure sufficient water remains for ski areas on NFS lands; and measures necessary to protect NFS lands and resources.

Timetable:

Action | Date | FR Cite
Proposed Rule | 01/00/14

Regulatory Flexibility Analysis Required: Yes.

Agency Contact: LaRenda C King, Assistant Director, Directives and Regulations, Department of Agriculture, Forest Service, ATTN: ORMS, D&R Branch, 1400 Independence Avenue SW., Washington, DC 20250-0003, Phone: 202 205-6560, Email: larendacking@fs.fed.us.

RIN: 0596-AD14

DEPARTMENT OF AGRICULTURE (USDA)

Forest Service (FS)

Final Rule Stage

180. Land Management Planning Rule Policy

Regulatory Plan: This entry is Seq. No. 21 in part II of this issue of the Federal Register.

RIN: 0596-AD06

[FR Doc. 2013-29628 Filed 1-6-14; 8:45 am]

BILLING CODE 3410-11-P